DEPARTMENT OF THE INTERIOR

U.S. Geological Survey

[GX14EF00CNTRC00]

Agency Information Collection Activities: Request for Comments on the Assessment of the Business Requirements and Benefits of Enhanced Geospatial Water Data

AGENCY: U.S. Geological Survey (USGS), Interior.

ACTION: Notice of a new information collection, Assessment of the Business Requirements and Benefits of Enhanced Geospatial Water Data.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, we must receive them on or before January 22, 2015.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-NEW Assessment of the Business Requirements and Benefits of Enhanced Geospatial Water Data'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-NEW: Assessment of the Business Requirements and Benefits of Enhanced Geospatial Water Data' in all correspondence.

FOR FURTHER INFORMATION CONTACT: Steve Aichele, National Geospatial Program U.S. Geological Survey, 215 Limekiln Rd., New Cumberland, PA 17070 (mail); 717-730-6949 (phone); or saichele@usgs.gov (email). You may also find information about this ICR at www.reginfo.gov.

SUPPLEMENTARY INFORMATION:

I. Abstract

The U.S. Geological Survey National Geospatial Program (NGP) is the Federal agency tasked by the Office of Management and Budget Circular A-16 with coordination of the hydrography (surface- water features) geospatial data theme. The purpose of this study is to ensure that the NGP's management of hydrography data theme is optimized to fully support the potential of geospatial data and information use in water science and mapping.

This one-time, voluntary information collection will engage professional users of hydrography information, including scientists, planners, and managers from Federal, state, and local government as well as academia and the private sector. The process will be guided by an interagency management team led by USGS with support from a professional services contractor. The information collection will include an online survey. Respondents may be contacted subsequently for clarification of responses. The information collection will focus on (1) respondent's current use of hydrography data, (2) desired improvements to hydrography data, and (3) benefits accrued to the respondent's mission if enhanced hydrography data were available. Personally Identifiable Information (PII) will not be sought. The results of the information collection will be used to evaluate potential future program changes for USGS hydrography data. A summary of the results will be published in a USGS publication. We will protect information from respondents considered proprietary under the Freedom of Information Act (5 U.S.C. 552) and it's implementing regulations (43 CFR part 2), and under regulations at 30 CFR 250.197, “Data and information to be made available to the public or for limited inspection.” All information will be stored according to established USGS security and information access protocols.

II. Data

OMB Control Number: 1028-NEW

Title: Assessment of the Business Requirements and Benefits of Enhanced Geospatial Water Data

Type of Request: Approval of new information collection.

Respondent Obligation: None (participation is voluntary).

Frequency of Collection: One time.

Description of Respondents: States, U.S. Territories, Tribes and selected private natural resource development companies.

Estimated Total Number of Annual Responses: 375 invited to survey, 300 expected respondents.

Estimated Time per Response: We estimate that it will take 5 minutes to read the invitation and 1 hour per person to complete the questionnaire.

Estimated Annual Burden Hours: 331.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On March 25, 2014, we published a Federal Register notice (79 FR 16368) announcing that we would submit this ICR to OMB for approval and soliciting comments. The comment period closed on May 27, 2014. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

Julia L. Fields,
Deputy Director, National Geospatial Program.

[FR Doc. 2014-29912 Filed 12-22-14; 8:45 am]

BILLING CODE 4311-AM-P